FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 25, 2013.

A. Federal Reserve Bank of Kansas City (Dennis Denney, Assistant Vice President) 1 Memorial Drive, Kansas City, Missouri 64198-0001:

1. The Donald L. Patry Revocable Trust; Ellen M. Patry Revocable Trust, and Ellen Patry, trustee, all of Newton, Kansas; Corey Patry, Wichita, Kansas; Brandon Patry, and Katie Patry, both of Valley Center, Kansas, as a group acting in concert, to retain voting shares of Whitewater Bancshares, Inc., and thereby indirectly retain voting shares of Bank of Whitewater, both in Whitewater, Kansas.

Board of Governors of the Federal Reserve System, January 7, 2013.
Margaret McCloskey Shanks,
Deputy Secretary of the Board.

[FR Doc. 2013-00331 Filed 1-9-13; 8:45 am]

BILLING CODE 6210-01-P